DEPARTMENT OF ENERGY

Federal Energy Regulatory Commission

[Project No. 6066-042]

McCallum Enterprises I, Limited Partnership, Shelton Canal Company; Notice of Application Tendered for Filing With the Commission and Establishing Procedural Schedule for Relicensing and Deadline for Submission of Final Amendments

Take notice that the following hydroelectric application has been filed with the Commission and is available for public inspection.

a. Type of Application: New Major License.

b. Project No.: 6066-042.

c. Date filed: April 15, 2024.

d. Applicants: McCallum Enterprises I, Limited Partnership (McCallum) and Shelton Canal Company (Shelton).

e. Name of Project: Derby Dam Hydroelectric Project (Derby Project or project).

f. Location: On the Housatonic River in Fairfield and New Haven Counties, Connecticut.

g. Filed Pursuant to: Federal Power Act, 16 U.S.C. 791(a)-825(r).

h. Applicant Contact: Mr. Joseph W. Szarmach Jr., McCallum Enterprises I, Limited Partnership, 2874 Main Street, Stratford, CT 06614; telephone at (203) 368-1745; email at joseph.szarmach@gmail.com.

i. FERC Contact: Brandi Welch-Acosta, Project Coordinator, New England Branch, Division of Hydropower Licensing; telephone at (202) 502-8964; email at brandi.welch-acosta@ferc.gov.

j. The application is not ready for environmental analysis at this time.

k. Project Description: The existing Derby Project consists of: (1) a 23.7-foot-high, 675-foot-long dam made of concrete capped cut stone with flashboards of varying heights, ranging from 1.8-foot-high to 2.2-foot-high, and a crest elevation of 25.2 feet National Geodetic Vertical Datum of 1988 (NGVD 88); (2) a 400-foot-long earth dike with a maximum height of 10 feet, located at the east abutment and oriented in a northwest-southwest direction; (3) a reservoir (Lake Housatonic) with a normal maximum water surface elevation of 25.2 feet NGVD 88 and a usable storage capacity of 500 acre-feet; (4) a gatehouse (Derby gatehouse); (5) a gatehouse (Shelton gatehouse) and 130-foot-long, 94-foot-wide headrace channel extending downstream from the dam; (6) a navigation lock located at the west abutment, which constitutes the first 70 feet of the Shelton canal; (7) a powerhouse (Shelton powerhouse) at the west abutment, in the existing Shelton canal and lock structure, and located approximately 130 feet downstream of the Shelton gatehouse, containing two horizontal A-C tube Kaplan turbines with two direct drive generators with a total rated capacity of 7.8 megawatts (MW) and a rated flow of 4,600 cubic feet per second; (8) a 775-foot-long, 13.8 kilovolt underwater transmission line tying into the existing United Illuminating Company system; and (9) appurtenant facilities.

The current license requires the implementation of an August 5, 1987 recreation plan that includes: (1) fishing access with an information kiosk downstream of the dam on the east shoreline; (2) fishing access with an information kiosk at the project's tailrace (west shoreline); (3) canoe portage and associated warning signs at the project's tailrace; (4) an information kiosk at the entrance to the project; and (5) picnic tables and benches with scenic views of the river.

The current license requires the project to operate in a run-of-river mode such that outflow from the project approximates inflow to the impoundment. The project bypasses approximately 350 feet of the Housatonic River. The average annual generation of the project was approximately 25,147 megawatt-hours from 2006 through 2016.

McCallum and Shelton propose to continue operating the project in a run-of-river mode. McCallum and Shelton also propose to: (1) develop an operation monitoring plan; (2) develop an impoundment refill plan; (3) install and operate an upstream fish passage facility with an automated fish lift; (4) install a new 0.4-MW minimum flow turbine within the upstream fish passage facility; (5) develop a fishway operation and maintenance plan; (6) install and operate one or more upstream eel passage facilities; (7) install and operate a downstream fish passage facility; (8) install a seasonal 0.75-inch partial depth trashrack overlay; and (9) implement downstream eel passage measures.

l. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-6066). For assistance, contact FERC at FERCOnlineSupport@ferc.gov, (866) 208-3676, or (202) 502-8659 (TTY).

You may also register online at https://ferconline.ferc.gov/FERCOnline.aspx to be notified via email of new filings and issuances related to this or other pending projects. For assistance, contact FERC Online Support.

m. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

n. Procedural schedule: The application will be processed according to the following preliminary schedule. Revisions to the schedule will be made as appropriate.

Milestone | Target date
Issue Deficiency Letter and Request for Additional Information | August 2024.
Issue Scoping Document 1 for comments | November 2024.
Request Additional Information (if necessary) | December 2024.
Issue Acceptance Letter | December 2024.
Issue Scoping Document 2 (if necessary) | January 2025.
Issue Notice of Ready for Environmental Analysis | January 2025.

o. Final amendments to the application must be filed with the Commission no later than 30 days from the issuance date of the notice of ready for environmental analysis.

Dated: July 5, 2024.
Debbie-Anne A. Reese,
Acting Secretary.

[FR Doc. 2024-15301 Filed 7-11-24; 8:45 am]

BILLING CODE 6717-01-P